ENVIRONMENTAL PROTECTION AGENCY

40 CFR Part 52

[EPA-R09-OAR-2020-0121; FRL-10021-07-Region 9]

Air Plan Approval; California; South Coast Air Quality Management District; Ventura County Air Pollution Control District; Correction

AGENCY: Environmental Protection Agency (EPA).

ACTION: Final rule; correction.

SUMMARY: The Environmental Protection Agency (EPA) is correcting a final rule that appeared in the Federal Register on February 24, 2021. That rule approved South Coast Air Quality Management District Rule 1168 and Ventura County Air Pollution Control District Rule 74.20 as revisions to the California State Implementation Plan (SIP).

DATES: This correction is effective on March 26, 2021.

FOR FURTHER INFORMATION CONTACT: Arnold Lazarus, EPA Region IX, 75 Hawthorne St., San Francisco, CA 94105. By phone: (415) 972-3024 or by email at lazarus.arnold@epa.gov.

SUPPLEMENTARY INFORMATION: In FR Doc. 2021-02909 appearing on page 11131 in the Federal Register of Wednesday, February 24, 2021, the following corrections are made:

§ 52.220 [Corrected]

1. On page 11131, in the second column, in part 52, instruction 2, “Section 52.220 is amended by adding paragraphs (c)(362)(i)(B)(3), (c)(429)(i)(A)(7), (c)(518)(i)(C), and (c)(545) to read as follows:” Is corrected to read “Section 52.220 is amended by adding paragraphs (c)(362)(i)(B)(3), (c)(429)(i)(A)(7), (c)(518)(i)(D), and (c)(545) to read as follows:”

2. On page 11131, at the top of the third column, “(C) South Coast Air Quality Management District.” is corrected to read “(D) South Coast Air Quality Management District.”

Dated: March 4, 2021.
Deborah Jordan
Acting Regional Administrator, Region IX.

[FR Doc. 2021-04987 Filed 3-10-21; 8:45 am]

BILLING CODE 6560-50-P